DEPARTMENT OF HOMELAND SECURITY

Coast Guard

33 CFR Part 165

[Docket Number USCG-2023-0904]

RIN 1625-AA11

Safety Zones; Coast Guard Sector Ohio Valley Annual and Recurring Safety Zones Update

AGENCY: Coast Guard, Department of Homeland Security (DHS).

ACTION: Notice of proposed rulemaking.

SUMMARY: The Coast Guard is proposing to amend and update its list of recurring safety zone regulations that take place in the Coast Guard Sector Ohio Valley area of responsibility (AOR). Through this rule the current list of recurring safety zones is proposed to be updated with revisions, additional events, and removal of events that no longer take place. This proposed rule would reduce administrative costs involved in producing separate proposed rules for each individual recurring safety zone and serve to provide notice of the known recurring safety zones throughout the year. We invite your comments on this proposed rulemaking.

DATES: Comments and related material must be received by the Coast Guard on or before February 22, 2024.

ADDRESSES: You may submit comments identified by docket number USCG-2023-0904 using the Federal Decision Making Portal at https://www.regulations.gov. See the “Public Participation and Request for Comments” portion of the SUPPLEMENTARY INFORMATION section for further instructions on submitting comments.

FOR FURTHER INFORMATION CONTACT: If you have questions about this proposed rulemaking, call or email MST2 Bryan Crane, Sector Ohio Valley, U.S. Coast Guard; telephone 502-779-5334, email SECOHV-WWM@USCG.MIL.

SUPPLEMENTARY INFORMATION:

I. Table of Abbreviations

AOR Area of responsibility

CFR Code of Federal Regulations

COTP Captain of the Port Sector Ohio Valley

DHS Department of Homeland Security

E.O. Executive Order

FR Federal Register

NPRM Notice of proposed rulemaking

§ Section

U.S.C. United States Code

AOR Area of Responsibility

II. Background, Purpose, and Legal Basis

The Captain of the Port Sector Ohio Valley (COTP) proposes to amend section 165.801 of Title 33 of the Code of Federal Regulations (CFR) to update our regulations for annual fireworks displays and other events in the Eighth Coast Guard District requiring safety zones with respect to those in Sector Ohio Valley.

The current list of annual and recurring safety zones in Sector Ohio Valley's area of responsibility (AOR) is published under Table 1 of 33 CFR 165.801 for annual safety zones in the AOR.

The Coast Guard proposes to amend and update the safety zone regulations under 33 CFR part 165 to include the most up to date list of recurring safety zones for events held on or around navigable waters within Sector Ohio Valley's AOR. These events include air shows, fireworks displays, and other marine related events requiring a limited access area restricting vessel traffic for safety purposes. The current list in 33 CFR 165.801 needs to be amended to provide new information on existing safety zones, and to include new safety zones expected to recur annually or biannually, and to remove safety zones that are no longer required. Issuing individual regulations for each new safety zone, amendment, or removal of an existing safety zone would create unnecessary administrative costs and burdens. This single proposed rulemaking would considerably reduce administrative overhead and provide the public with notice through publication in the Federal Register of the upcoming recurring safety zone regulations.

The Coast Guard encourages the public to participate in this proposed rulemaking through the comment process so that any necessary changes can be identified and implemented in a timely and efficient manner. The Coast Guard will address all public comments accordingly, whether through response, additional revision to the regulation, or otherwise.

III. Discussion of Proposed Rule

Part 165 of 33 CFR contains regulations establishing limited access areas to restrict vessel traffic for the safety of persons and property. Section 165.801 establishes recurring safety zones to restrict vessel transit into and through specified areas to protect spectators, mariners, and other persons and property from potential hazards presented during certain events taking place in the AOR. This section requires amendment from time to time to properly reflect the recurring safety zone regulations in the AOR. This proposed rule would amend and update § 165.801 by revising the current Table 1.

This proposed rule would add the following 3 safety zones to the existing Table 1 section 165.801 as follows:

Date | Event/sponsor | Ohio Valley location | Regulated area
1 day—First or Second weekend in July | Rivesville Firework Show | Rivesville, WV | Monongahela River, Miles 122-124 (West Virginia).
1 day in August | Wheeling Water Lantern Tribute | Wheeling, WV | Ohio River, Miles 90-92 (West Virginia).
1 day—Labor Day Weekend | Catlettsburg Labor Day Fireworks | Catlettsburg, KY | Ohio River (Mile 317-317.5) Kentucky.

These new recurring events would be reflected in the table in the general date order in which they will occur, and the current recurring events would be reordered, as shown in the proposed regulatory text below.

This proposed rule would amend the following 2 safety zones to the existing Table 1 section 165.801 as follows:

Date | Event/sponsor | Ohio Valley location | Regulated area | Previously
1 Day—Recurring one weekend in May and June, and on July 4th | Live on the Levee Fireworks (Previously Live on the Levee Memorial Day fireworks) | Charleston, WV | Kanawha River, Mile 58.1-59.1 (West Virginia) | 1 Day—Recurring one weekend in May and June, and on July 4th.
23. 1 day—Last weekend in June or first weekend in July | City of Aurora/Aurora Riverfront Beautification—Red, White, and Boom | Aurora, IN | Ohio River, Mile 496.7; 1,400 ft. radius from the Consolidated Grain Dock located along the State of Indiana shoreline at (Indiana and Kentucky) | 23. 1 day—Last weekend in June or first weekend in July.

The effect of this proposed rule would be to restrict general navigation in the safety zones during the events. Vessels intending to transit the designated waterway through the safety zones would only be allowed to transit the area when the COTP, or a designated representative, has deemed it safe to do so or at the completion of the event. The proposed annually recurring safety zones are necessary to provide for the safety of life on navigable waters during the events.

IV. Regulatory Analyses

We developed this proposed rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This NPRM has not been designated a “significant regulatory action,” under Executive Order 12866. Accordingly, the NPRM has not been reviewed by the Office of Management and Budget (OMB).

The Coast Guard expects the economic impact of this proposed rule to be minimal, therefore a full regulatory evaluation is unnecessary. This proposed rule would establish safety zones limiting access to certain areas under 33 CFR part 165 within Sector Ohio Valley's AOR. The effect of this proposed rulemaking would not be significant because these safety zones would be limited in scope and duration. Additionally, the public would be given advance notification through the Federal Register, and/or Notices of Enforcement and, thus, will be able to plan operations around the safety zones. Broadcast Notices to Mariners, Local Notices to Mariners, and Safety Marine Information Broadcasts would inform the community of these safety zones. Vessel traffic would be allowed to request permission from the COTP or a designated representative to enter the restricted areas. Broadcast Notices to Mariners, Local Notices to Mariners, and Safety Marine Information Broadcasts would inform the community of these safety zones. Vessel traffic would be allowed to request permission from the COTP or a designated representative to enter the restricted areas.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the safety zone may be small entities, for the reasons stated in section IV.A above this proposed rule would not have a significant economic impact on any vessel owner or operator.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or Tribal Government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. Normally such actions are categorically excluded from further review under paragraph L60(a) of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

G. Protest Activities

The Coast Guard respects the First Amendment rights of protesters. Protesters are asked to call or email the person listed in the FOR FURTHER INFORMATION CONTACT section to coordinate protest activities so that your message can be received without jeopardizing the safety or security of people, places, or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision Making Portal at https://www.regulations.gov. To do so, go to https://www.regulations.gov, type USCG-2023-0904 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 165

Harbors, Marine safety, Navigation (water), Reporting and recordkeeping requirements, Security measures, Waterways.

For the reasons discussed in the preamble, the Coast Guard is proposing to amend 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. In § 165.801, revise and republish Table 1 to read as follows:

§ 165.801 Annual Fireworks displays and other events in the Eighth Coast Guard District recurring safety zones.

* * * * *

Table 1 of § 165.801—Sector Ohio Valley Annual and Recurring Safety Zones
Date | Sponsor/name | Sector Ohio Valley location | Safety zone
1. 3 days—Third or Fourth weekend in April | Henderson Breakfast Lions Club Tri-Fest | Henderson, KY | Ohio River, Miles 802.5-805.5 (Kentucky).
2. 2 days—Third Friday and Saturday in April | Thunder Over Louisville | Louisville, KY | Ohio River, Mile 597.0-604.0 (Kentucky).
3. Multiple days—April through November | Pittsburgh Pirates Season Fireworks | Pittsburgh, PA | Allegheny River, Miles 0.2-0.9 (Pennsylvania).
4. Multiple days—April through November | Cincinnati Reds Season Fireworks | Cincinnati, OH | Ohio River, Miles 470.1-470.4; extending 500 ft. from the State of Ohio shoreline (Ohio).
5. Multiple days—April through November | Pittsburgh Riverhounds Season Fireworks | Pittsburgh, PA | Monongahela River, Miles 0.22-0.77 (Pennsylvania).
6. 1 day—First week in May | Belterra Park Gaming Fireworks | Cincinnati, OH | Ohio River, Miles 460.0-462.0 (Ohio).
7. 1 day—Recurring one weekend in May and June, and on July 4th | Live on the Levee Fireworks (Previously Live on the Levee Memorial Day fireworks) | Charleston, WV | Kanawha River, Mile 58.1-59.1 (West Virginia).
8. 1 day—Saturday before Memorial Day | Venture Outdoors Festival | Pittsburgh, PA | Allegheny River, Miles 0.0-0.25; Monongahela River, Miles 0.0-0.25 (Pennsylvania).
9. 1 day—Saturday before Memorial Day | Ironton-Lawrence County Memorial Day Fireworks | Ironton, OH | Ohio River, Mile 328 (West Virginia).
10. 1 day—First Sunday in June | West Virginia Symphony Orchestra/Symphony Sunday | Charleston, WV | Kanawha River, Miles 59.5-60.5 (West Virginia).
11. 3 days in June | CMA Festival | Nashville, TN | Cumberland River, Miles 190.7-191.1 extending 100 feet from the left descending bank (Tennessee).
12. 1 day in June | Cumberland River Compact/Nashville Splash Bash | Nashville, TN | Cumberland River, Miles 189.7-192.1 (Tennessee).
13. 2 days—A weekend in June | Rice's Landing Riverfest | Rice's Landing, PA | Monongahela River, Miles 68.0-68.8 (Pennsylvania).
14. 2 days—Second Friday and Saturday in June | City of Newport, KY/Italianfest | Newport, KY | Ohio River, Miles 468.6-471.0 (Kentucky and Ohio).
15. 1 day in June | Friends of the Festival, Inc./Riverbend Festival Fireworks | Chattanooga, TN | Tennessee River, Miles 462.7-465.2 (Tennessee).
16. 1 day in June | Junteenth/Black Complex of Louisville | Louisville, KY | Ohio River, Miles 603.5-604.5.
17. 1 day in June | CMA Festival Fireworks | Nashville, TN | Cumberland River 190-191 (Tennessee).
18. 1 day—Second or Third week of June | TriState Pottery Festival Fireworks | East Liverpool, OH | Ohio River, Miles 42.5-45.0 (Ohio).
19. 3 days—One of the last three weekends in June | Hadi Shrine/Evansville Freedom Festival Air Show | Evansville, IN | Ohio River, Miles 790.0-796.0 (Indiana).
20. One weekend in June | Alzheimer's Water Lantern Festival/IC Care | Wheeling, WV | Ohio River Mile 90.3-91.8.
21. 1 day—Last weekend in June or first weekend in July | Riverview Park Independence Festival | Louisville, KY | Ohio River, Miles 617.5-620.5 (Kentucky).
22. 1 day—Last weekend in June or First weekend in July | City of Point Pleasant/Point Pleasant Sternwheel Fireworks | Point Pleasant, WV | Ohio River, Miles 265.2-266.2, Kanawha River Miles 0.0-0.5 (West Virginia).
23. 1 day—Last weekend in June or first weekend in July | City of Aurora/Aurora Riverfront Beautification—Red, White, and Boom | Aurora, IN | Ohio River, Mile 496.7; 1,400 ft. radius from the Consolidated Grain Dock located along the State of Indiana shoreline at (Indiana and Kentucky).
24. 1 day—Last week of June or first week of July | PUSH Beaver County/Beaver County Boom | Beaver, PA | Ohio River, Miles 25.2-25.6 (Pennsylvania).
25. 1 day—Last weekend in June or first week in July | Evansville Freedom Celebration/4th of July Fireworks | Evansville, IN | Ohio River, Miles 790.0-796.0 (Indiana).
26. 1 day—Last week in June or First week in July | Rising Sun Fireworks | Rising Sun, IN | Ohio River, Miles 506.0-507.0 (Indiana).
27. 1 day—Weekend before the 4th of July | Kentucky Dam Marine/Kentucky Dam Marina Fireworks | Gilbertsville, KY | 350 foot radius, from the fireworks launch site, on the entrance jetties at Kentucky Dam Marina, on the Tennessee River at Mile Marker 23 (Kentucky).
28. 1 day—First or Second weekend in July | Rivesville Firework Show | Rivesville, WV | Monongahela River, Miles 122-124 (West Virginia).
29. 1 day in July | Clarksville Independence Day Fireworks | Ashland City, TN | Cumberland River, Miles 127-129 (Tennessee).
30. 1 day in July | Gallatin Marina Fireworks | Gallatin, TN | Cumberland River, Miles 236.5-237.5 (Tennessee).
31. 1 day in July | Town of Cumberland City/Lighting up the Cumberlands | Cumberland City, TN | Cumberland River, Miles 103.0-105.5 (Tennessee).
32. 1 day in July | Chattanooga Presents/Pops on the River | Chattanooga, TN | Tennessee River, Miles 462.7-465.2 (Tennessee).
33. 1 day in July | Randy Boyd/Independence Celebration Fireworks Display | Knoxville, TN | Tennessee River, Miles 625.0-628.0 (Tennessee).
34. 1 day—July 3rd | Moors Resort and Marina/Kentucky Lake Big Bang | Gilbertsville, KY | 600 foot radius, from the fireworks launch site, on the entrance jetty to Moors Resort and Marina, on the Tennessee River at mile marker 30.5. (Kentucky).
35. 1 day—3rd or 4th of July | City of Paducah, KY | Paducah, KY | Ohio River, Miles 934.0-936.0; Tennessee River, Miles 0.0-1.0 (Kentucky).
36. 1 day—3rd or 4th of July | City of Hickman, KY/Town Of Hickman Fireworks | Hickman, KY | 700 foot radius from GPS coordinate 36°34.5035 N, 089°11.919 W, in Hickman Harbor located at mile marker 921.5 on the Lower Mississippi River (Kentucky).
37. 1 day—July 4th | City of Knoxville/Knoxville Festival on the 4th | Knoxville, TN | Tennessee River, Miles 646.3-648.7 (Tennessee).
38. 1 day in July | Nashville NCVC/Independence Celebration | Nashville, TN | Cumberland River, Miles 189.7-192.3 (Tennessee).
39. 1 day in July | Shoals Radio Group/Spirit of Freedom Fireworks | Florence, AL | Tennessee River, Miles 254.5-257.4 (Alabama).
40. 1 day—4th of July (Rain date—July 5th) | Monongahela Area Chamber of Commerce/Monongahela 4th of July Celebration | Monongahela, PA | Monongahela River, Miles 032.0-033.0 (Pennsylvania).
41. 1 day—July 4th | Cities of Cincinnati, OH and Newport, KY/July 4th Fireworks | Newport, KY | Ohio River, Miles 469.6-470.2 (Kentucky and Ohio).
42. 1 day—July 4th | Wellsburg 4th of July Committee/Wellsburg 4th of July Freedom Celebration | Wellsburg, WV | Ohio River, Miles 73.5-74.5 (West Virginia).
43. 1 day—week of July 4th | Wheeling Symphony fireworks | Wheeling, WV | Ohio River, Miles 90-92 (West Virginia).
44. 1 day—First week or weekend in July | Summer Motions Inc./Summer Motion | Ashland, KY | Ohio River, Miles 322.1-323.1 (Kentucky).
45. 1 day—week of July 4th | Chester Fireworks | Chester, WV | Ohio River mile 42.0-44.0 (West Virginia).
46. 1 day—First week of July | Toronto 4th of July Fireworks | Toronto, OH | Ohio River, Mile 58.2-58.8 (Ohio).
47. 1 day—First week of July | Cincinnati Symphony Orchestra | Cincinnati, OH | Ohio River, Miles 460.0-462.0 (Ohio).
48. 1 day—First week or weekend in July | Gallia County Chamber of Commerce/Gallipolis River Recreation Festival | Gallipolis, OH | Ohio River, Miles 269.5-270.5 (Ohio).
49. 1 day—First week or weekend in July | Kindred Communications/Dawg Dazzle | Huntington, WV | Ohio River, Miles 307.8-308.8 (West Virginia).
50. 1 day—First week or weekend in July | Greenup City | Greenup, KY | Ohio River, Miles 335.2-336.2 (Kentucky).
51. 1 day—First week or weekend in July | Middleport Community Association | Middleport, OH | Ohio River, Miles 251.5-252.5 (Ohio).
52. 1 day—First week or weekend in July | People for the Point Party in the Park | South Point, OH | Ohio River, Miles 317-318 (Ohio).
53. 1 day—One of the first two weekends in July | City of Bellevue, KY/Bellevue Beach Park Concert Fireworks | Bellevue, KY | Ohio River, Miles 468.2-469.2 (Kentucky & Ohio).
54. 1 day—First Week of July | Pittsburgh 4th of July Celebration | Pittsburgh, PA | Ohio River, Miles 0.0-0.5, Allegheny River, Miles 0.0-0.5, and Monongahela River, Miles 0.0-0.5 (Pennsylvania).
55. 1 day—First week or weekend in July | City of Charleston/City of Charleston Independence Day Celebration | Charleston, WV | Kanawha River, Miles 58.1-59.1 (West Virginia).
56. 1 day—First week or weekend in July | Portsmouth River Days | Portsmouth, OH | Ohio River, Miles 355.5-357.0 (Ohio).
57. 1 day—During the first week of July | Louisville Bats Baseball Club/Louisville Bats Firework Show | Louisville, KY | Ohio River, Miles 602.0-605.0 (Kentucky).
58. 1 day—During the first week of July | Waterfront Independence Festival/Louisville Orchestra Waterfront 4th | Louisville, KY | Ohio River, Miles 602.0-605.0 (Kentucky).
59. 1 day—During the first week of July | Celebration of the American Spirit Fireworks/All American 4th of July | Owensboro, KY | Ohio River, Miles 754.0-760.0 (Kentucky).
60. 1 day—During the first week of July | Riverfront Independence Festival Fireworks | New Albany, IN | Ohio River, Miles 606.5-609.6 (Indiana).
61. 1 day in July | Grand Harbor Marina/Grand Harbor Marina July 4th Celebration | Counce, TN | Tennessee-Tombigbee Waterway, Miles 448.5-451.0 (Tennessee).
62. 1 night in July | Steubenville fireworks | Steubenville, OH | Ohio River Mile 67.5-68.5.
63. 1 day—During the first two weeks of July | City of Maysville Fireworks | Maysville, KY | Ohio River, Miles 408-409 (Kentucky).
64. 1 day—One of the first two weekends in July | Madison Regatta, Inc./Madison Regatta | Madison, IN | Ohio River, Miles 554.0-561.0 (Indiana).
65. 1 day—Third Saturday in July | Pittsburgh Irish Rowing Club/St. Brendan's Cup Currach Regatta | Pittsburgh, PA | Ohio River, Miles 7.0-9.0 (Pennsylvania).
66. 1 day—Third or fourth week in July | Upper Ohio Valley Italian Heritage Festival/Upper Ohio Valley Italian Heritage Festival Fireworks | Wheeling, WV | Ohio River, Miles 90.0-90.5 (West Virginia).
67. 1 day—Saturday Third or Fourth full week of July (Rain date—following Sunday) | Oakmont Yacht Club/Oakmont Yacht Club Fireworks | Oakmont, PA | Allegheny River, Miles 12.0-12.5 (Pennsylvania).
68. 2 days—One weekend in July | Marietta Riverfront Roar Fireworks | Marietta, OH | Ohio River, Miles 171.6-172.6 (Ohio).
69. 1 day—Last weekend in July or first weekend in August | Fort Armstrong Folk Music Festival | Kittanning, PA | Allegheny River, Mile 45.1-45.5 (Pennsylvania).
70. 1 day in August | Music City Grand Prix Fireworks | Nashville, TN | Cumberland River 190-191 (Tennessee).
71. 1 day in August | Wheeling Water Lantern Tribute | Wheeling, WV | Ohio River, Miles 90-92 (West Virginia).
72. 1 day in August | Nashville ASAE Fireworks | Nashville, TN | Cumberland River 190-191 (Tennessee).
73. 3 Days in August | Music City Grand Prix | Nashville, TN | Cumberland River 190-191 (Tennessee).
74. 1 day—First week in August | Gliers Goetta Fest LLC | Newport, KY | Ohio River, Miles 469.0-471.0.
75. 1 day—First or second week of August | Bellaire All-American Days | Bellaire, OH | Ohio River, Miles 93.5-94.5 (Ohio).
76. 1 day—Second full week of August | PA FOB Fireworks Display | Pittsburgh, PA | Allegheny River, Miles 0.8-1.0 (Pennsylvania).
77. 1 day—Second Saturday in August | Guyasuta Days Festival/Borough of Sharpsburg | Pittsburgh, PA | Allegheny River, Miles 005.5-006.0 (Pennsylvania).
78. 1 day—In the Month of August | Pittsburgh Foundation/Bob O'Connor Cookie Cruise | Pittsburgh, PA | Ohio River, Mile 0.0-0.5 (Pennsylvania).
79. 1 day—Third week of August | Beaver River Regatta Fireworks | Beaver, PA | Ohio River, Miles 25.2-25.8 (Pennsylvania).
80. 1 day—One weekend in August | Parkersburg Homecoming Festival-Fireworks | Parkersburg, WV | Ohio River, Miles 183.5-185.5 (West Virginia).
81. 1 day—One weekend in August | Ravenswood River Festival | Ravenswood, WV | Ohio River, Miles 220-221 (West Virginia).
82. 1 day—The second or third weekend of August | Green Turtle Bay Resort/Grand Rivers Marina Day | Grand Rivers, KY | 420 foot radius, from the fireworks launch site, at the entrance to Green Turtle Bay Resort, on the Cumberland River at mile marker 31.5. (Kentucky).
83. 1 day—last 2 weekends in August/first week of September | Wheeling Dragon Boat Race | Wheeling, WV | Ohio River, Miles 90.4-91.5 (West Virginia).
84. 1 day—One weekend in the month of August or September | Owensboro Fireworks and Bridge Lights show | Owensboro, KY | Ohio River, Miles 756-757 (Kentucky).
85. Sunday, Monday, or Thursday from August through February | Pittsburgh Steelers Fireworks | Pittsburgh, PA | Allegheny River, Miles 0.0-0.25, Ohio River, Miles 0.0-0.1, Monongahela River, Miles 0.0-0.1. (Pennsylvania).
86. 1 day—One weekend before Labor Day | Riverfest/Riverfest Inc | Nitro, WV | Kanawha River, Miles 43.1-44.2 (West Virginia).
87. 1 day—The weekend of Labor Day | Newburgh Fireworks Display | Newburgh, IN | Ohio River, Miles 777.3-778.3 (Indiana).
88. 1 day—Labor day Weekend | Catlettsburg Labor Day Fireworks | Catlettsburg, KY | Ohio River (Mile 317-317.5) Kentucky.
89. 2 days—Sunday before Labor Day and Labor Day | Cincinnati Bell, WEBN, and Proctor and Gamble/Riverfest | Cincinnati, OH | Ohio River, Miles 469.2-470.5 (Kentucky and Ohio) and Licking River, Miles 0.0-3.0 (Kentucky).
90. 1 day in September | Nashville Symphony/Concert Fireworks | Nashville, TN | Cumberland River, Miles 190.1-192.3 (Tennessee).
91. 1 day—Second weekend in September | City of Clarksville/Clarksville Riverfest | Clarksville, TN | Cumberland River, Miles 124.5-127.0 (Tennessee).
92. 3 days—Second or third week in September | Wheeling Heritage Port Sternwheel Festival Foundation/Wheeling Heritage Port Sternwheel Festival | Wheeling, WV | Ohio River, Miles 90.2-90.7 (West Virginia).
93. 1 day—One weekend in September | Ohio River Sternwheel Festival Committee fireworks | Marietta, OH | Ohio River, Miles 171.5-172.5 (Ohio).
94. 1 day—One weekend in September | Tribute to the River | Point Pleasant, WV | Ohio River, Miles 264.6-265.6 (West Virginia).
95. 1 day—One weekend in September | Aurora Fireworks | Aurora, IN | Ohio River, Mile 496.3-497.3 (Ohio).
96. 1 day—Last two weekends in September | Cabana on the River | Cincinnati, OH | Ohio River, Mile 483.2-484.2 (Ohio).
97. Multiple days—September through January | University of Pittsburgh Athletic Department/University of Pittsburgh Fireworks | Pittsburgh, PA | Ohio River, Miles 0.0-0.1, Monongahela River, Miles 0.0-0.1, Allegheny River, Miles 0.0-0.25 (Pennsylvania).
98. 1 day—First three weeks of October | Leukemia & Lymphoma Society/Light the Night | Pittsburgh, PA | Ohio River, Mile 0.0-0.5, Allegheny River, Mile 0.0-0.5, and Monongahela River, Mile 0.0-0.5 (Pennsylvania).
99. 1 day in October | Leukemia and Lymphoma Society/Light the Night Walk Fireworks | Nashville, TN | Cumberland River, Miles 189.7-192.1 (Tennessee).
100. 1 day—First two weeks in October | Yeatman's Fireworks | Cincinnati, OH | Ohio River, Miles 469.0-470.5 (Ohio).
101. 1 day—One weekend in October | West Virginia Motor Car Festival | Charleston, WV | Kanawha River, Miles 58-59 (West Virginia).
102. 2 days—One of the last three weekends in October | Monster Pumpkin Festival | Pittsburgh, PA | Allegheny River, Mile 0.0-0.25 (Pennsylvania).
103. 1 day—Within two weeks of Thanksgiving | Pittsburgh Downtown Partnership/Light Up Night | Pittsburgh, PA | Allegheny River, Miles 0.0-1.0 (Pennsylvania).
104. 1 day—Friday before Thanksgiving | Kittanning Light Up Night Firework Display | Kittanning, PA | Allegheny River, Miles 44.5-45.5 (Pennsylvania).
105. 1 day—within 2 weeks of Thanksgiving | Santa Spectacular/Light up Night | Pittsburgh, PA | Ohio River, Mile 0.0-0.5, Allegheny River, Mile 0.0-0.5, and Monongahela River, Mile 0.0-0.5 (Pennsylvania).
106. 1 day—Friday before Thanksgiving | Monongahela Holiday Show | Monongahela, PA | Ohio River, Miles 31.5-32.5 (Pennsylvania).
107. 1 day in November | Friends of the Festival/Cheer at the Pier | Chattanooga, TN | Tennessee River, Miles 462.7-465.2 (Tennessee).
108. 1 day—Third week of November | Gallipolis in Lights | Gallipolis, OH | Ohio River, Miles 269.2-270 (Ohio).
109. 1 day—December 31 | Pittsburgh Cultural Trust/Highmark First Night Pittsburgh | Pittsburgh, PA | Allegheny River, Miles 0.5-1.0 (Pennsylvania).
110. 7 days—Scheduled home games | University of Tennessee/UT Football Fireworks | Knoxville, TN | Tennessee River, Miles 645.6-648.3 (Tennessee).

* * * * *

Dated: January 16, 2024.
H.R. Mattern,
Captain, U.S. Coast Guard, Captain of the Port Sector Ohio Valley.

[FR Doc. 2024-01186 Filed 1-22-24; 8:45 am]

BILLING CODE 9110-04-P